NATIONAL AERONAUTICS AND SPACE ADMINSTRATION

[Notice 04-129]

Return to Flight Task Group; Meeting

AGENCY: National Aeronautics and Space Administration (NASA).

ACTION: Notice of meeting.

SUMMARY: In accordance with the Federal Advisory Committee Act, Public Law 92-463, as amended, the National Aeronautics and Space Administration announces a meeting of the Return to Flight Task Group (RTF TG).

DATES: Thursday, December 16, 2004, from 7 a.m. until Noon. Central Standard Time.

ADDRESSES: The Marshall Institute, 14205 Cochran Road, Building 700, Huntsville, AL 35824.

FOR FURTHER INFORMATION CONTACT: Mr. Vincent D. Watkins at (281) 792-7523.

SUPPLEMENTARY INFORMATION: The meeting will be open to the public up to the seating capacity of the meeting room. Attendees will be requested to sign a register.

The agenda for the meeting is as follows:

—Welcome remarks from Co-Chair

—Discussion of status of NASA's implementation of selected Columbia Accident Investigation Board Return to Flight recommendations

—Action item summary from Executive Secretary

—Closing remarks from Co-Chair

It is imperative that the meeting be held on this date to accommodate the scheduling priorities of the key participants. Live audio of the public meeting will be available via the Internet at http://returntoflight.org.

P. Diane Rausch,
Advisory Committee Management Officer, National Aeronautics and Space Administration.

[FR Doc. 04-26303 Filed 11-26-04; 8:45 am]

BILLING CODE 7510-13-P